DEPARTMENT OF THE INTERIOR

Fish and Wildlife Service

[FWS-R8-ES-2015-N123; FF08ENVD00-FXES11120888ENR0-156]

Endangered and Threatened Wildlife and Plants; Nevada Department of Wildlife; Application for Enhancement of Survival Permit; Proposed Programmatic Candidate Conservation Agreement With Assurances for the Relict Leopard Frog; Clark County, Nevada

AGENCY: Fish and Wildlife Service, Interior.

ACTION: Receipt of application; request for comment.

SUMMARY: We, the U.S. Fish and Wildlife Service (Service) announce receipt from the Nevada Department of Wildlife (NDOW) of an application for an enhancement of survival permit (permit) under the Endangered Species Act of 1973, as amended (ESA). The requested permit would authorize take of the relict leopard frog (RLF) resulting from certain land use and conservation activities, should the species be listed as endangered or threatened in the future. The permit application includes a proposed programmatic candidate conservation agreement with assurances (CCAA) between NDOW and the Service. The requested term of the proposed CCAA and permit is 30 years. In accordance with the requirements of the National Environmental Policy Act (NEPA), we have prepared a draft low-effect screening form supporting our determination that the proposed action qualifies as a categorical exclusion under NEPA. We are accepting comments on the permit application, proposed CCAA, and draft NEPA compliance documentation.

DATES: Written comments on the permit application, proposed programmatic CCAA, and draft NEPA compliance documentation must be received on or before August 19, 2015.

ADDRESSES: Obtaining Documents: Persons wishing to review the application, the proposed CCAA, the draft NEPA compliance documentation, or other related documents may obtain copies by written or telephone request to Jeri Krueger, by mail at U.S. Fish and Wildlife Service, Reno Fish and Wildlife Office, 1340 Financial Boulevard, Suite 234, Reno, NV 89502, or by phone at 775-861-6300. Copies of these documents may also be obtained on the Internet at http://www.fws.gov/nevada/protected_species/amphibians/species/relict_leopard_frog.html.

Submitting Comments: Please address written comments to Michael J. Senn, Field Supervisor, U.S. Fish and Wildlife Service, Southern Nevada Fish and Wildlife Office, 4701 North Torrey Pines Drive, Las Vegas, NV 89130. You may also send comments by facsimile to 702-515-5231. Please note that your information request or comment is in reference to the Programmatic CCAA for the Relict Leopard Frog, Clark County, Nevada.

FOR FURTHER INFORMATION CONTACT: Jeri Krueger, Reno Fish and Wildlife Office, at the address or telephone number listed above under ADDRESSES.

SUPPLEMENTARY INFORMATION:

Document Availability

You may obtain copies of the permit application, proposed CCAA, draft NEPA compliance documentation, and other related documents from the individual listed under FOR FURTHER INFORMATION CONTACT. Copies of these documents are also available for public inspection, by appointment, during regular business hours (8 a.m. to 4:30 p.m.), at the Southern Nevada Fish and Wildlife Office, 4701 North Torrey Pines Drive, Las Vegas, NV 89130.

Background Information

Enhancement of survival permits issued for CCAAs encourage non-Federal landowners to implement conservation measures for species that are, or are likely to become, candidates for Federal listing as endangered or threatened by assuring landowners they will not be subjected to increased property use restrictions if the covered species becomes listed in the future. Application requirements and issuance criteria for enhancement of survival permits issued for CCAAs are in the Code of Federal Regulations (CFR) at 50 CFR 17.22(d) and 17.32(d). The policy for CCAAs was published in the Federal Register on June 17, 1999 (64 FR 32726).

Proposed Project

The proposed RLF CCAA is a programmatic agreement between the Service and NDOW to further the conservation of the RLF on non-Federal lands or on lands under the management authority of a non-Federal entity. A RLF Conservation Agreement and Strategy (CAS) that directs the implementation of conservation actions on Federal land was completed and approved in 2005, and is being implemented by the RLF Conservation Team, which is comprised of representatives from the signatory agencies of the CAS. One of the primary goals of the CAS is to establish additional populations of RLF within its historic range to secure species persistence into the future. However, the CAS does not provide a mechanism to establish populations on non-Federal lands while providing regulatory assurances to the landowner in the event the species becomes listed in the future. The proposed programmatic CCAA would provide these assurances to non-Federal landowners, thus promoting opportunities to implement conservation actions and increase RLF distribution on non-Federal land.

Under the proposed RLF CCAA, NDOW would establish a program in which individual landowners would enroll their property. To enroll in the program, a landowner would enter into a cooperative agreement (CA) with NDOW that contains a site-specific management plan for the enrolled lands. NDOW would then issue the landowner a Certificate of Inclusion that would authorize a certain level of take of RLF under NDOW's permit as described in the CCAA and CA if the species becomes listed under the ESA in the future. The CA would specify conservation measures to address known threats to the RLF which may include, but are not limited to, translocation of RLF, fencing, deepening a tank or pool, removal of non-native aquatic predators, maintenance of suitable habitat conditions, enhancement of dispersal corridors, vegetation enhancement, and public education. The CA would also specify measures to minimize the incidental take of RLF that might occur as a result of implementing the conservation measures or conducting other land use activities.

NDOW seeks to enroll lands in Clark County, Nevada, that are associated with the Virgin, Muddy, and Colorado River drainages within or in close proximity to the historic range of the RLF, identified as the Potential Management Zone in the CAS and CCAA. The proposed CCAA would include properties that have existing, historic, or potentially suitable habitat for RLF. Such habitats may include reliable and protected water supplies and water quality, limited or controllable public access, accessibility for management actions and RLF translocations or removal, permanent ponds and/or wetland areas, natural springs, spring outflows or reaches of springbrooks and streams that represent suitable habitat for any or all life stages of RLF. An enrolled property may include all or some combination of suitable habitat types, or the potential to create those habitats.

As required by NEPA, we evaluated impacts to the human environment that would result from issuance of the requested permit, and we do not foresee any significant effects. Therefore, we are proposing to categorically exclude this action from further analysis under NEPA. Entering into a cooperative agreement is strictly a voluntary action for landowners, and the activities to be covered under the permit are generally activities already occurring on these properties.

We will evaluate the permit application, associated documents, and comments we receive to determine whether the permit application meets the requirements of the ESA, NEPA, and implementing regulations. If we determine that all requirements are met, we will sign the proposed CCAA and issue a permit under section 10(a)(1)(A) of the ESA to NDOW for take of RLF. We will not make our final decision until after the end of the 30-day public comment period, and we will fully consider all comments we receive during the public comment period.

Public Availability of Comments

All comments we receive become part of the public record. Requests for copies of comments will be handled in accordance with the Freedom of Information Act, NEPA, and Service and Department of Interior policies and procedures. Before including your address, phone number, email address, or other personal identifying information in your comment, you should be aware that your entire comment—including your personal identifying information—may be made publicly available at any time. While you can ask us to withhold your personal identifying information from public review, we cannot guarantee we will be able to do so.

Authority

We provide this notice under section 10(c) of the Act (16 U.S.C. 1531 et seq.) and its implementing regulations (50 CFR 17.22 and 17.32), and the National Environmental Policy Act (42 U.S.C. 4371 et seq.) and its implementing regulations (40 CFR 1506.6).

Dated: July 14, 2015.
Michael J. Senn,
Field Supervisor, Southern Nevada Fish and Wildlife Office, Las Vegas, Nevada.

[FR Doc. 2015-17705 Filed 7-17-15; 8:45 am]

BILLING CODE 4310-55-P